DEPARTMENT OF LABOR

Employment and Training Administration

[TA-W-61,608]

Personnel Management, Inc., a Division of DHI Holdings, Inc. Including Workers of Premier Manufacturing Support Services, Inc. and Product Action International, LLC Working On-Site at Toyota Motor Manufacturing Indiana, Inc. Princeton, IN; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and a Denial of Eligibility to Apply for Alternative Trade Adjustment Assistance on July 20, 2007, applicable to workers of Personnel Management, Inc., a division of DHI Holdings, Inc., working on-site at Toyota Motor Manufacturing Indiana, Inc., Princeton, Indiana. The notice was published in the Federal Register on August 2, 2007 (72 FR 42435).

At the request of the petitioners, the Department reviewed the certification for workers of the subject firm. The workers are engaged in the production of Toyota Sequoia, Toyota Siennas and Toyota Tundras.

New information shows that workers leased by Toyota Motor Manufacturing Indiana, Inc. from Premier Manufacturing Support Services, Inc. and Product Action International, LLC were employed on-site at Toyota Motor Manufacturing Indiana, Inc., Princeton, Indiana.

The intent of the Department's certification is to include all workers at the subject firm who were adversely affected by increases of imports of articles like or directly competitive with the vehicles produced at the subject plant in Princeton, Indiana.

The Department has determined that these workers were sufficiently under the control of Toyota Motor Manufacturing Indiana, Inc., Princeton, Indiana to be considered leased workers.

Based on these findings, the Department is amending this certification to include workers leased from Premier Manufacturing Support Services, Inc. and Product Action International, LLC working on-site at the Princeton, Indiana location of the subject firm.

The amended notice applicable to TA-W-61,608 is hereby issued as follows:

“All workers of Personnel Management, Inc., a division of DHI Holdings, Inc., including workers of Premier Manufacturing Support Services, Inc. and Product Action International, LLC, working on-site at Toyota Motor Manufacturing Indiana, Inc., Princeton, Indiana, who became totally or partially separated from employment on or after May 29, 2006 through July 20, 2009, are eligible to apply for adjustment assistance under Section 223 of the Trade Act of 1974.”

I further determine that all workers of Personnel Management, Inc., a division of DHI Holdings, Inc., including workers of Premier Manufacturing Support Services, Inc. and Product Action International, LLC, working on-site at Toyota Motor Manufacturing Indiana, Inc., Princeton, Indiana are denied eligibility to apply for alternative trade adjustment assistance under Section 246 of the Trade Act of 1974.

Signed in Washington, DC, this 17th day of July 2009.
Richard Church,
Certifying Officer, Division of Trade Adjustment Assistance.

[FR Doc. E9-18649 Filed 8-4-09; 8:45 am]

BILLING CODE 4510-FN-P